DEPARTMENT OF AGRICULTURE

Forest Service

Notice of Meeting; Federal Lands Recreation Enhancement Act (Title VIII, Pub. L. 108-447)

AGENCY: Pacific Southwest Region, Forest Service, U.S. Department of Agriculture.

ACTION: Notice of Meeting.

SUMMARY: The Pacific Southwest Recreation Resource Advisory Committee (Recreation RAC) will hold a meeting in Redding, California. The purpose of this meeting is to conduct a field trip to view the recreation program and fee sites on the Shasta-Trinity National Forest and to make recommendations for fee proposals on lands managed by the Forest Service and Bureau of Land Management in California. The Recreation RAC will consider fee proposals for standard amenity fee and expanded amenity fees from the Eldorado, Cleveland, Inyo, Sequoia and Shasta-Trinity National Forests and the Bureau of Land Management Arcata Area Office.

DATES: The meeting will be held June 24, 2008 from 8 a.m.-6 p.m. and June 25, 2008 from 8 a.m. to 3 p.m.

ADDRESSES: The field trip on the first day will begin at 8 a.m. at the Shasta-Trinity NF, Forest Supervisor's office with an overview by Forest staff and then will depart from there for various sites on the Shasta-Trinity National Forest. On the second day the meeting will be held at the Shasta-Trinity Forest Supervisor's Office. The address for the Forest Supervisor's office is 3644 Avetech Parkway, Redding, CA. Send written comments to Marlene Finley, Designated Federal Official for the Pacific Southwest Region Recreation RAC, 1323 Club Drive, Vallejo, CA 94592, 707-562-8856 or mfinley01@fs.fed.us.

FOR FURTHER INFORMATION CONTACT: Marlene Finley, Designated Federal Official, Pacific Southwest Region Recreation RAC, 1323 Club Drive, Vallejo, CA 94592.

SUPPLEMENTARY INFORMATION: The meeting is open to the public. Committee discussion is limited to Forest Service and Bureau of Land Management staff and Committee members. However, persons who wish to bring recreation fee matters to the attention of the Committee may file written statements with the Committee staff before or after the meeting. A public input session will be provided during the meeting and individuals who wish to address the Recreation RAC will have an opportunity at 10 a.m. on June 25. Comments will be limited to three minutes per person. The Recreation RAC is authorized by the Federal Land Recreation Enhancement Act, which was signed into law by President Bush in December 2004.

Dated: May 27, 2008.
Marlene Finley,
Designated Federal Official, Recreation RAC, Pacific Southwest Region.

[FR Doc. E8-12178 Filed 5-30-08; 8:45 am]

BILLING CODE 3410-11-M